DEPARTMENT OF TRANSPORTATION

Federal Aviation Administration

14 CFR Part 39

[Docket No. FAA-2009-0159; Directorate Identifier 2008-NM-175-AD; Amendment 39-15828; AD 2009-05-04]

RIN 2120-AA64

Airworthiness Directives; Bombardier Model CL-215-6B11 (CL-215T Variant) and CL-215-6B11 (CL-415 Variant) Airplanes

AGENCY: Federal Aviation Administration (FAA), Department of Transportation (DOT).

ACTION: Final rule; request for comments.

SUMMARY: The FAA is adopting a new airworthiness directive (AD) for certain Bombardier Model CL-215-6B11 (CL-215T variant) and CL-215-6B11 (CL-415 variant) airplanes. This AD requires repetitive inspections for contamination of grease, bearing wear checks, grease applications of the rudder lower torque tube upper bearing, and a rudder upper hinge gap check; and related investigative and corrective actions if necessary. This AD results from a report of corrosion on the rudder lower torque tube upper bearing. We are issuing this AD to detect and correct corroded bearings which could lead to hinge deformation, and could result in a rudder jam and consequent reduced controllability of the airplane.

DATES: This AD becomes effective March 16, 2009.

The Director of the Federal Register approved the incorporation by reference of certain publications listed in the AD as of March 16, 2009.

We must receive comments on this AD by March 30, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Bombardier, Inc., 400 Côte-Vertu Road West, Dorval, Québec H4S 1Y9, Canada; telephone 514-855-5000; fax 514-855-7401; e-mail thd.crj@aero.bombardier.com; Internet http://www.bombardier.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Fabio Buttitta, Aerospace Engineer, Airframe and Propulsion Branch, ANE-171, FAA, New York Aircraft Certification Office, 1600 Stewart Avenue, Suite 410, Westbury, New York 11590; telephone (516) 228-7303; fax (516) 794-5531.

SUPPLEMENTARY INFORMATION:

Discussion

Transport Canada Civil Aviation (TCCA), which is the airworthiness authority for Canada, notified us that an unsafe condition may exist on Bombardier Model CL-215-6B11 (CL-215T variant) and CL-215-6B11 (CL-415 variant) airplanes. TCCA advises that during a routine inspection, an operator reported corrosion on the rudder lower torque tube upper bearing, part number DAT48-64A, on two airplanes. These bearings had been installed in accordance with Bombardier Service Bulletin 215-4328, Revision 3, dated May 20, 2008, as part of the torque tube replacement. Corroded lower torque tube upper bearings can lead to hinge deformation, which could result in a rudder jam and consequent reduced controllability of the airplane.

Relevant Service Information

Bombardier has issued Bombardier Service Bulletin 215-3151, dated May 5, 2008 (for 215T variant airplanes); and Bombardier Service Bulletin 215-4394, dated May 5, 2008 (for 415 variant airplanes). These service bulletins describe procedures for repetitive detailed inspections for signs of contamination, including corrosion/rust particles in the flange and housing of the rudder lower torque tube upper bearing. These service bulletins also describe procedures for bearing wear checks, and grease applications of the rudder lower torque tube upper bearing, and a rudder upper hinge gap check; and related investigative and corrective actions if necessary. Related investigative actions include inspecting old grease for signs of contamination, measuring the distance from the top of the bearing housing to the top of the lower bearing flange shoulder at multiple locations around the bearing, and doing a visual inspection to determine the cause of the excessive wear. Corrective actions include replacing the bearing(s) and adjusting the hinge gap. TCCA mandated the service information and issued Canadian airworthiness directive CF-2008-29, dated August 20, 2008 (referred to after this as “the MCAI”), to ensure the continued airworthiness of these airplanes in Canada.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Therefore, we are issuing this AD to detect and correct corroded bearings which can lead to hinge deformation, and result in a rudder jam and consequent reduced controllability of the airplane. This AD requires accomplishing the actions specified in the service information described previously, except as discussed under “Differences Between This AD and the Canadian Airworthiness Directive.”

Differences Between This AD and the Canadian Airworthiness Directive

Bombardier Service Bulletin 215-3151, dated May 5, 2008 (for 215T variant airplanes); and Bombardier Service Bulletin 215-4394, dated May 5, 2008 (for 415 variant airplanes) recommend accomplishing the required actions “before and after every fire season,” but we find this interval to be imprecise and vague. In developing appropriate compliance times for this AD, we considered not only the manufacturer's recommendation, but the degree of urgency associated with addressing the subject unsafe condition, the average utilization of the affected fleet, and the time necessary to perform the required actions. In light of all of these factors, we find that a 6-month repetitive interval for the required actions is an appropriate interval of time for affected airplanes to continue to operate without compromising safety. This difference has been coordinated with TCCA.

Interim Action

We consider this proposed AD interim action. If final action is later identified, we might consider further rulemaking then.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Inspection | 4 | $80 | None | $320 per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0159; Directorate Identifier 2008-NM-175-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2009-05-04 Bombardier Inc. (Formerly Canadair): Amendment 39-15828. Docket No. FAA-2009-0159; Directorate Identifier 2008-NM-175-AD.

Effective Date

(a) This AD becomes effective March 16, 2009.

Affected ADs

(b) None.

Applicability

(c) This AD applies to the following airplanes, certificated in any category:

(1) Bombardier Model CL-215-6B11 (CL-215T variant) airplanes, serial numbers 1056 through 1125 inclusive, and

(2) Bombardier Model CL-215-6B11 (CL-415 variant) airplanes, serial numbers 2001 through 2990 inclusive.

Unsafe Condition

(d) This AD results from a report of corrosion on the rudder lower torque tube upper bearing. We are issuing this AD to detect and correct corroded bearings which could lead to hinge deformation, and could result in a rudder jam and consequent reduced controllability of the airplane.

Compliance

(e) You are responsible for having the actions required by this AD performed within the compliance times specified, unless the actions have already been done.

Inspections

(f) Within 6 months after the effective date of this AD, do a detailed inspection for contamination of grease, a bearing wear check, and grease application of the rudder lower torque tube upper bearing, and do a rudder upper hinge gap check, in accordance with the Accomplishment Instructions of Bombardier Service Bulletin 215-3151, dated May 5, 2008 (for 215T variant airplanes); or Bombardier Service Bulletin 215-4394, dated May 5, 2008 (for 415 variant airplanes); as applicable. Do all related investigative and corrective actions before further flight in accordance with the service bulletin, as applicable. Repeat the detailed inspection thereafter at intervals not to exceed 6 months.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Exception to Service Bulletin Specifications

(g) Although Bombardier Service Bulletin 215-3151, dated May 5, 2008; and Bombardier Service Bulletin 215-4394, dated May 5, 2008; specify to submit certain information to the manufacturer, this AD does not include that requirement.

Alternative Methods of Compliance (AMOCs)

(h) The Manager, New York Aircraft Certification Office (ACO), ANE-170, FAA, has the authority to approve AMOCs for this AD, if requested using the procedures found in 14 CFR 39.19. Send information to ATTN: Fabio Buttitta, Aerospace Engineer, Airframe and Propulsion Branch, ANE-171, FAA, New York Aircraft Certification Office, 1600 Stewart Avenue, Suite 410, Westbury, New York 11590; telephone (516) 228-7303; fax (516) 794-5531. Before using any approved AMOC on any airplane to which the AMOC applies, notify your principal maintenance inspector (PMI) or principal avionics inspector (PAI), as appropriate, or lacking a principal inspector, your local Flight Standards District Office. The AMOC approval letter must specifically reference this AD.

Related Information

(i) Canadian airworthiness directive CF-2008-29, dated August 20, 2008, also addresses the subject of this AD.

Material Incorporated by Reference

(j) You must use Bombardier Service Bulletin 215-3151, dated May 5, 2008; or Bombardier Service Bulletin 215-4394, dated May 5, 2008; as applicable; to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on February 17, 2009.
Ali Bahrami,
Manager, Transport Airplane Directorate, Aircraft Certification Service.

[FR Doc. E9-3864 Filed 2-26-09; 8:45 am]

BILLING CODE 4910-13-P